FEDERAL ELECTION COMMISSION

[Notice 2006-3]

Price Index Increases for Coordinated Party Expenditure Limitations

AGENCY: Federal Election Commission.

ACTION: Notice of coordinated party expenditure limit increases.

SUMMARY: As mandated by provisions of the Bipartisan Campaign Reform Act of 2002 (“BCRA”), the Federal Election Commission (“the Commission”) is adjusting the coordinated party expenditure limits set forth in the Federal Election Campaign Act of 1971, as amended, to account for increases in the consumer price index.

Additional details appear in the supplemental information that follows.

DATES: Effective Date: The effective date for the limits is January 1, 2006.

FOR FURTHER INFORMATION CONTACT: Mr. Gregory J. Scott, Information Division, 999 E Street, NW., Washington, DC 20463; Telephone: (202) 694-1100; Toll Free (800) 424-9530.

SUPPLEMENTARY INFORMATION: Under the Federal Election Campaign Act of 1971, 2 U.S.C. 431 et seq., as amended by the Bipartisan Campaign Reform Act of 2002, Public Law 107-155, 116 Stat. 81 (March 27, 2002), coordinated party expenditure limits (2 U.S.C. 441a(d)(3)(A) and (B)) are adjusted annually by the consumer price index. See 2 U.S.C. 441a(c)(1). The Commission is publishing this notice to announce the limits for 2006.

Coordinated Party Expenditure Limits for 2006

Under 2 U.S.C. 441a(c), the Commission must adjust the expenditure limitations established by 2 U.S.C. 441a(d) (the limits on expenditures by national party committees, State party committees, or their subordinate committees in connection with the general election campaign of candidates for Federal office) annually to account for inflation. This expenditure limitation is increased by the percent difference between the price index, as certified to the Commission by the Secretary of Labor, for the 12 months preceding the beginning of the calendar year and the price index for the base period (calendar year 1974).

1. Expenditure Limitation for House of Representatives

Both the national and state party committees have an expenditure limitation for each general election held to fill a seat in the House of Representatives. The formula used to calculate the expenditure limitation in a state with more than one congressional district multiplies the base figure of $10,000 by the price index (3.961), rounding to the nearest $100. Based upon this formula, the expenditure limitation for 2006 House elections in those states is $39,600. The formula used to calculate the expenditure limitation in a state with only one congressional district multiplies the base figure of $20,000 by the price index (3.961), rounding to the nearest $100. Based upon this formula, the expenditure limitation for 2006 House elections in these states is $79,200.

2. Expenditure Limitation for Senate

Both the national and state party committees have an expenditure limitation for a general election held to fill a seat in the Senate. The formula used to calculate the Senate expenditure limitation considers not only the price index but also the voting age population (“VAP”) of the state. The expenditure limitation is the greater of: the base figure ($20,000) multiplied by the price index (which totals $79,200); or $0.02 multiplied by the VAP of the state, multiplied by the price index. Amounts are rounded to the nearest $100. The chart below provides the state-by-state breakdown of the 2006 expenditure limitations for Senate elections.

Senate Expenditure Limitations.—2006 Elections
State | VAP (in thousands) | VAP × .02 multiplied by the price index (3.961) | Expenditure limit (the greater of the amount in column 3 or $79,200)
Alabama | 3,468 | $274,700 | $274,700
Alaska | 475 | 37,600 | 79,200
Arizona | 4,359 | 345,300 | 345,300
Arkansas | 2,104 | 166,700 | 166,700
California | 26,430 | 2,093,800 | 2,093,800
Colorado | 3,485 | 276,100 | 276,100
Connecticut | 2,675 | 211,900 | 211,900
Delaware | 648 | 51,300 | 79,200
Florida | 13,722 | 1,087,100 | 1,087,100
Georgia | 6,710 | 531,600 | 531,600
Hawaii | 975 | 77,200 | 79,200
Idaho | 1,055 | 83,600 | 83,600
Illinois | 9,522 | 754,300 | 754,300
Indiana | 4,669 | 369,900 | 369,900
Iowa | 2,296 | 181,900 | 181,900
Kansas | 2,070 | 164,000 | 164,000
Kentucky | 3,193 | 252,900 | 252,900
Louisiana | 3,376 | 267,400 | 267,400
Maine | 1,044 | 82,700 | 82,700
Maryland | 4,197 | 332,500 | 332,500
Massachusetts | 4,941 | 391,400 | 391,400
Michigan | 7,597 | 601,800 | 601,800
Minnesota | 3,903 | 309,200 | 309,200
Mississippi | 2,173 | 172,100 | 172,100
Missouri | 4,422 | 350,300 | 350,300
Montana | 731 | 57,900 | 79,200
Nebraska | 1,327 | 105,100 | 105,100
Nevada | 1,794 | 142,100 | 142,100
New Hampshire | 1,007 | 79,800 | 79,800
New Jersey | 6,556 | 519,400 | 519,400
New Mexico | 1,439 | 114,000 | 114,000
New York | 14,709 | 1,165,200 | 1,165,200
North Carolina | 6,542 | 518,300 | 518,300
North Dakota | 500 | 39,600 | 79,200
Ohio | 8,705 | 689,600 | 689,600
Oklahoma | 2,695 | 213,500 | 213,500
Oregon | 2,791 | 221,100 | 221,100
Pennsylvania | 9,613 | 761,500 | 761,500
Rhode Island | 831 | 65,800 | 79,200
South Carolina | 3,228 | 255,700 | 255,700
South Dakota | 588 | 46,600 | 79,200
Tennessee | 4,572 | 362,200 | 362,200
Texas | 16,534 | 1,309,800 | 1,309,800
Utah | 1,727 | 136,800 | 136,800
Vermont | 490 | 38,800 | 79,200
Virginia | 5,743 | 455,000 | 455,000
Washington | 4,803 | 380,500 | 380,500
West Virginia | 1,434 | 113,600 | 113,600
Wisconsin | 4,240 | 335,900 | 335,900
Wyoming | 395 | 31,300 | 79,200

Dated: March 14, 2006.
Michael E. Toner,
Chairman, Federal Election Commission.

[FR Doc. E6-4052 Filed 3-20-06; 8:45 am]

BILLING CODE 6715-01-P